ENVIRONMENTAL PROTECTION AGENCY

[Docket ID Number EPA-HQ-OECA-2010-0710; FRL-9298-2]

Clean Air Act: Opportunity To Comment, Activities Required by Federal Facilities Compliance Agreement With the Tennessee Valley Authority

AGENCY: Environmental Protection Agency (EPA).

ACTION: Notice.

SUMMARY: The Environmental Protection Agency (EPA) has entered into a federal facilities compliance agreement with the Tennessee Valley Authority (TVA), Docket No. CAA-04-2010-1760 (Compliance Agreement) to resolve alleged violations of the Clean Air Act and its implementing regulations at the eleven facilities that TVA owns and operates in Alabama, Kentucky, and Tennessee. EPA is hereby providing public notice of this Compliance Agreement and providing an opportunity for interested persons to comment on the Compliance Agreement.

DATES: Comments are due on or before May 20, 2011.

ADDRESSES: Submit your comments, identified by Docket ID No. EPA-HQ-OECA-2010-0710, by one of the following methods:

• http://www.regulations.gov: Follow the on-line instructions for submitting comments.

• E-mail: docket.oeca@epa.gov, Attention Docket ID No. EPA-HQ-OECA-2010-0710.

• Mail: Enforcement and Compliance Docket Information Center, Environmental Protection Agency, Mailcode: 2822T, 1200 Pennsylvania Ave., NW., Washington, DC 20460, Attention Docket ID No. EPA-HQ-OECA-2010-0710.

• Hand Delivery: Enforcement and Compliance Docket Information Center in the EPA Docket Center (EPA/DC), EPA West, Room 3334, 1301 Constitution Avenue, NW., Washington, DC. The EPA Docket Center Public Reading Room is open from 8:30 a.m. to 4:30 p.m., Monday through Friday, excluding legal holidays. Such deliveries are only accepted during the Docket's normal hours of operation, and special arrangements should be made for deliveries of boxed information. The telephone number for the Reading Room is (202) 566-1744, and the telephone number for the Enforcement and Compliance Docket is (202) 566-1927.

Instructions: Direct your comments to Docket ID No. EPA-HQ-OECA-2010-0710. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or docket.oeca@epa.gov, Attention Docket ID No. EPA-HQ-OECA-2010-0710. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Enforcement and Compliance Docket Information Center in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

FOR FURTHER INFORMATION CONTACT: Jason Dressler, South Air Enforcement Section (9T25), Environmental Protection Agency, 61 Forsyth Street, SW., Atlanta, Georgia 30303; telephone number: 404-562-9208; e-mail address: dressler.jason@epa.gov.

Summary of the Proposed Action for Comment

EPA alleges in the Compliance Agreement and the companion Consent Agreement and Final Order (CAFO), Docket No. CAA-04-2010-1528(b), that TVA failed to comply with certain requirements of the Clean Air Act intended to protect air quality. TVA is also concurrently entering into a federal consent decree (Consent Decree) with the State of Alabama, the Commonwealth of Kentucky, the State of North Carolina, the State of Tennessee and three non-governmental organizations, the National Parks Conservation Association, the Sierra Club, and Our Children's Earth Foundation, pertaining to such alleged violations of the Clean Air Act. Pursuant to the proposed Consent Decree, TVA will perform substantially the same relief as required by the Compliance Agreement. Neither the CAFO nor the Consent Decree are subject to this notice for public comment. EPA is only requesting public comment regarding the Compliance Agreement, Docket No. CAA-04-2010-1760.

EPA alleges that TVA violated the Prevention of Significant Deterioration, Nonattainment New Source Review, New Source Performance Standards, and Title V provisions of the Clean Air Act, 42 U.S.C. 7470-7492, 7501-7515, 7411, 7661-7661f, and related state and federal implementing regulations at the following coal-fired power plants: The Allen Fossil Plant located in Shelby County, Memphis, Tennessee; the Bull Run Fossil Plant, located in Anderson County, Clinton, Tennessee; the Colbert Fossil Plant, located in Colbert County, Tuscumbia, Alabama; the Cumberland Fossil Plant, located in Stewart County, Cumberland City, Tennessee; the John Sevier Fossil Plant, located in Hawkins County, Rogersville, Tennessee; the Kingston Fossil Plant, located in Roane County, Kingston, Tennessee; the Paradise Fossil Plant, located in Muhlenburg County, Drakesboro, Kentucky; and the Shawnee Fossil Plant, located in McCracken County, Paducah, Kentucky.

The alleged violations arise from the construction of modifications at units at these plants and operation of such units in violation of the requirements of the Act. EPA alleges that TVA failed to obtain appropriate permits prior to making major modifications and failed to install and apply required pollution control devices to reduce emissions of various air pollutants from units at the plants identified above. The CAFO assesses a civil penalty of $8 million to resolve these alleged violations. In addition to the $8 million proposed civil penalty TVA will pay to EPA, pursuant to the Consent Decree TVA will pay $500,000 to Alabama, $500,000 to Kentucky, and $1 million to Tennessee to resolve alleged violations of the Clean Air Act and related state and federal implementing regulations.

The Compliance Agreement addresses units at the eight plants identified above as well units at the following three plants that were not alleged to be in violation of the Clean Air Act or related state and federal implementing regulations: the Gallatin Fossil Plant located in Sumner County, Gallatin, Tennessee; the Johnsonville Fossil Plant located in Humphreys County, near Waverly, Tennessee; and the Widows Creek Fossil Plant located in Jackson County, near Stevenson, Alabama. The Compliance Agreement requires installation, upgrading, and continuous operation of pollution control devices on a number of the 59 units at the 11 plants addressed in this Compliance Agreement. The Compliance Agreement also requires TVA to permanently shut down and cease to operate two units at the John Sevier plant, six units at the Widows Creek plant, and all ten units at the Johnsonville plant. Further, the Compliance Agreement imposes emissions caps that limit the total amount of nitrogen oxides and sulfur dioxide that can be collectively emitted by all 59 units at these plants. And, the Compliance Agreement imposes obligations that will reduce emissions of particulate matter.

The Compliance Agreement requires TVA to spend $290 million for environmental mitigation projects in its service territory to mitigate the alleged adverse effects of its past alleged violations. Pursuant to the Consent Decree, TVA will fund an additional $60 million in environmental mitigation projects in Alabama, Kentucky, North Carolina, and Tennessee.

Dated: April 15, 2011.
Adam M. Kushner,
Director, Office of Civil Enforcement.

[FR Doc. 2011-9581 Filed 4-19-11; 8:45 am]

BILLING CODE 6560-50-P